DEPARTMENT OF ENERGY

Federal Energy Regulatory Commission

[Docket No. IC04-515-001, FERC-515]

Commission Information Collection Activities, Proposed Collection; Comment Request; Submitted for OMB Review

November 23, 2004.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review of this information collection requirement. Any interested person may file comments directly with OMB and should address a copy of those comments to the Commission as explained below. The Commission received no comments in response to an earlier Federal Register notice of September 27, 2004 (69 FR 57678-79) and has made this notification in its submission to OMB.

DATES: Comments on the collection of information are due by December 30, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at (202) 395-4650. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-515-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-515 “Declaration of Intention”.

2. Sponsor: Federal Energy Regulatory Commission.

3. Control No.: 1902-0079.

The Commission is now requesting that OMB approve and reinstate with a three-year extension of the expiration date, with no changes to the existing collection. The information filed with the Commission is mandatory.

3. Necessity of the Collection of Information: Submission of this information is necessary to enable the Commission to carry out its responsibilities in implementing the statutory provisions of part I, Sections 23(b) of the Federal Power Act (FPA). Section 23(b) authorizes the Commission to make a determination as to whether it has jurisdiction over a proposed hydroelectric project. Section 23(b) also requires that any person intending to construct project works on navigable commerce clause waters must file a declaration of their intention to do so with the Commission. If the Commission finds the proposed project will have an impact on “interstate or foreign commerce”, then the person(s) intending to construct the project must obtain a Commission license or exemption before construction. Such sites are generally on streams defined as U.S. navigation waters, and over which the Commission has jurisdiction under its authority to regulate foreign and interstate commerce. The information is collected in the form of a written application, declaring the applicant's intent and used by Commission staff to research the jurisdictional aspects of the project. A finding of non-jurisdictional by the Commission eliminates a substantial paperwork burden for the applicant who might otherwise have to file for a license or an exemption application.

The information filed with the Commission is a mandatory requirement. The Commission implements these filing requirements in the Code of Federal Regulations (CFR) under 18 CFR part 24.

5. Respondent Description: The respondent universe currently comprises 10 respondents (average) subject to the Commission's jurisdiction.

6. Estimated Burden: 800 total hours, 10 respondent (average per year), 1 response per respondent, and 80 hours per response (average).

7. Estimated Cost Burden to respondents: 800 hours/2080 hours per years × $108,588 per year = $41,764.

Statutory Authority: Sections 23(b) of the Federal Power Act (16 U.S.C. 816).

Magalie R. Salas,
Secretary.

[FR Doc. 04-26536 Filed 12-1-04; 8:45 am]

BILLING CODE 6717-01-P